NATIONAL CREDIT UNION ADMINISTRATION

12 CFR Part 748

Security Program, Report of Suspected Crimes, Suspicious Transactions, Catastrophic Acts and Bank Secrecy Act Compliance

CFR Correction

In Title 12 of the Code of Federal Regulations, Parts 600 to 899, revised as of January 1, 2013, on page 963, in § 748.2, the second paragraph (b)(2) is removed.

[FR Doc. 2013-18550 Filed 7-30-13; 8:45 am]

BILLING CODE 1505-01-D